DEPARTMENT OF COMMERCE

National Oceanic and Atmospheric Administration

RIN 0648-XR063

Marine Mammals; File No. 22678

AGENCY: National Marine Fisheries Service (NMFS), National Oceanic and Atmospheric Administration (NOAA), Commerce.

ACTION: Notice; receipt of application.

SUMMARY: Notice is hereby given that NMFS' Marine Mammal Laboratory, Seattle Washington (Responsible Party: John Bengtson), has applied in due form for a permit to conduct research on pinnipeds.

DATES: Written, telefaxed, or email comments must be received on or before November 25, 2019.

ADDRESSES: The application and related documents are available for review by selecting “Records Open for Public Comment” from the “Features” box on the Applications and Permits for Protected Species (APPS) home page, https://apps.nmfs.noaa.gov, and then selecting File No. 22678 from the list of available applications.

These documents are also available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Sara Young or Shasta McClenahan, (301) 427-8401.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), the regulations governing the taking, importing, and exporting of endangered and threatened species (50 CFR parts 222-226), and the Fur Seal Act of 1966, as amended (16 U.S.C. 1151 et seq.).

The applicant proposes to conduct research on pinnipeds to meet the mandates of the MMPA and ESA by improving our understanding of west coast pinniped species through monitoring population abundance and trends, health, and behavior as mandated under the laws. The applicant requests the following: (1) Directed and incidental takes of the U.S. stock of California sea lions (Zalophus californianus); California, Oregon, Washington coast and Inland Washington stocks of Pacific harbor seals (Phoca vitulina); the California breeding stock of northern elephant seals (Mirounga angustirostris), and Mexico stock of Guadalupe fur seals (Artocephalus townsendi) and (2) incidental takes of the California stock of northern fur seals (Callorhinus ursinus) and eastern Pacific stock of Steller sea lions (Eumetopias jubatus). Up to 271,215 live California sea lions may be taken annually including 2,435 by capture for sampling, 80 by intentional mortality for humane purposes, and 268,700 by incidental disturbance. Research activities include: Aerial, vessel, ground, and observation surveys; capture for sampling of tissues, marking, and instrumentation; remote immobilization, biopsy and marking. Samples may be exported to domestic or foreign collaborators for analysis or archived. Up to 69,805 live Pacific harbor seals may be taken annually including 1,405 by capture for sampling and 68,400 by incidental disturbance. Up to 186,720 live northern elephant seals may be taken annually including 120 by capture for sampling and 186,600 by incidental disturbance. Up to 295 live Guadalupe fur seals may be taken annually including 130 by capture for sampling and 165 by incidental disturbance. Up to 20 live hybrid pinnipeds may be taken annually by capture for sampling. Up to 12 California sea lions, 6 harbor seals, 4 elephant seals, 3 Guadalupe fur seals, or 3 pinniped hybrids may be taken annually by unintentional mortality, with a maximum of 28 for all species over the duration of the permit. Up to 500 dead California sea lions, harbor seals, and elephant seals and 5 Guadalupe fur seals may be salvaged annually. The requested duration of the permit is 5 years.

In compliance with the National Environmental Policy Act of 1969 (42 U.S.C. 4321 et seq.), an initial determination has been made that the activity proposed is categorically excluded from the requirement to prepare an environmental assessment or environmental impact statement.

Julia Marie Harrison,
Chief, Permits and Conservation Division, Office of Protected Resources, National Marine Fisheries Service.

[FR Doc. 2019-23383 Filed 10-24-19; 8:45 am]

BILLING CODE 3510-22-P